DEPARTMENT OF THE INTERIOR

Bureau of Land Management

[LLNV952000 L14400000.BJ0000.LXSSF2210000.241A; MO #4500143868 TAS: 20X]

Filing of Plats of Survey; Nevada

AGENCY: Bureau of Land Management, Interior.

ACTION: Notice.

SUMMARY: The purpose of this notice is to inform the public and interested State and local government officials of the filing of Plats of Survey in Nevada.

DATES: Filing is applicable at 10:00 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described lands was officially filed at the Bureau of Land Management (BLM) Nevada State Office, Reno, Nevada, on January 16, 2020.

The plat, in one sheet, representing the dependent resurvey of Mineral Survey No. 3868, Township 12 North, Range 63 East, Mount Diablo Meridian, Nevada, under Group No. 992, was accepted January 14, 2020. This survey was executed to meet certain administrative needs of the Bureau of Land Management.

2. The Plat of Survey of the following described lands was officially filed at the Bureau of Land Management (BLM) Nevada State Office, Reno, Nevada, on May 14, 2020.

The plat, in two sheets, representing the dependent resurvey of the Seventh Standard Parallel South, through a portion of Range 63 East, a portion of the subdivisional lines and potions of certain mineral surveys, and metes-and-bounds surveys in sections 2 and 11, Township 29 South, Range 63 East, Mount Diablo Meridian, Nevada, under Group No. 978, was accepted May 8, 2020. This survey was executed to meet certain administrative needs of the Bureau of Land Management.

3. The Plat of Survey of the following described lands was officially filed at the Bureau of Land Management (BLM) Nevada State Office, Reno, Nevada, on June 25, 2020.

The plat, in one sheet, representing the dependent resurvey of a portion of the north boundary and a portion of the subdivisional lines, and the subdivision of section 3, Township 3 South, Range 57 East, Mount Diablo Meridian, Nevada, under Group No. 965, was accepted June 18, 2020. This survey was executed to meet certain administrative needs of the Bureau of Land Management.

4. The Plat of Survey of the following described lands was officially filed at the Bureau of Land Management (BLM) Nevada State Office, Reno, Nevada, on June 30, 2020.

The plat, in five sheets, representing the dependent resurvey of a portion of the subdivisional lines and portions of certain mineral surveys, Township 20 South, Range 65 East, Mount Diablo Meridian, Nevada, under Group 952, was accepted May 8, 2020. This survey was executed to meet certain administrative needs of the Bureau of Land Management.

5. The Plat of Survey of the following described lands was officially filed at the Bureau of Land Management (BLM) Nevada State Office, Reno, Nevada, on July 23, 2020.

The plat, in one sheet, representing the dependent resurvey of a portion of the subdivisional lines, Township 4, South, Range 54 East, Mount Diablo Meridian, Nevada, under Group No. 988, was accepted July 21, 2020. This survey was executed to meet certain administrative needs of the Bureau of Land Management.

The surveys, listed above, are now the basic record for describing the lands for all authorized purposes. These records have been placed in the open files in the BLM Nevada State Office and are available to the public as a matter of information.

Authority: 43 U.S.C., Chapter 3.

Dated: August 27, 2020.
Michael O. Harmening,
Chief Cadastral Surveyor for Nevada.

[FR Doc. 2020-19344 Filed 9-3-20; 8:45 am]

BILLING CODE 4310-HC-P